DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

Tobacco Regulation for Substance Abuse Prevention and Treatment—45 CFR Part 96—(OMB No. 0930-0165; Extension, no change)—This final rule provides guidance to States regarding compliance with section 1926 of the Public Health Service Act (42 USC 300x-26) related to sale and distribution of tobacco to minors. The final rule implements section 1926 by specifying the content of the State's annual report on the provisions of the rule and application for block grant funds. The reporting burden shown below represents the average total hours to assemble, format and produce the information for the block grant provision on minors' access to tobacco, in accordance with the requirements of 45 CFR Part 96. These burden hours are counted towards the total burden for the annual Substance Abuse Prevention and Treatment Block Grant Application Format (OMB No. 0930-0080) for which separate approval is obtained.

45 CFR Citation | Number of responses | Respondents/respondent | Hours/ response | Total hour burden
Annual report:
96.122(f) | 59 | 1 | 0 | ¹ 0
96.130(e)(1-3) | 59 | 1 | 15 | 885
State Plan:
96.122(g)(21) | 0 | 0 | 0 | ² 0
96.130(e)(4-5) | 59 | 1 | 14 | 826
96.130(g) | 59 | 1 | 5 | 295
Total |  |  | 34 | 2,006
¹ This section describes requirements for the first applicable, which has passed for all States. Therefore, no burden is associated with this section.
² This section duplicates the information collection language in section 96.130(e). The burden is shown for 96.130(e).

Written comments and recommendations concerning the proposed information collection should be sent within 30 days of this notice to: Stuart Shapiro, Human Resources and Housing Branch, Office of Management and Budget, New Executive Office Building, Room 10235, Washington, DC 20503.

Dated: December 11, 2000.
Richard Kopanda,
Executive Officer, SAMHSA.

[FR Doc. 00-32103 Filed 12-15-00; 8:45 am]

BILLING CODE 4162-20-P